DEPARTMENT OF THE INTERIOR

Bureau of Land Management

[AK964-1410-HY-P, F-14861-B, BSA-2]

Alaska Native Claims Selection

AGENCY: Bureau of Land Management, DOI.

ACTION: Notice of decision approving lands for conveyance.

SUMMARY: As required by 43 CFR 2650.7(d), notice is hereby given that an appealable decision approving lands for conveyance pursuant to the Alaska Native Claims Settlement Act will be issued to Golovin Native Corporation, for the lands in T. 13 S., R. 20 W., Tps. 11 and 13 S., R. 21 W., and T. 12 S., R. 22 W., Kateel River Meridian, located in the vicinity of Golovin, Alaska, containing approximately 4,388 acres. Notice of the decision will also be published four times in the Nome Nugget.

DATES: The time limits for filing an appeal are:

1. Any party claiming a property interest which is adversely affected by the decision shall have until July 7, 2005, to file an appeal.

2. Parties receiving service of the decision by certified mail shall have 30 days from the date of receipt to file an appeal.

Parties who do not file an appeal in accordance with the requirements of 43 CFR Part 4, Subpart E, shall be deemed to have waived their rights.

ADDRESSES: A copy of the decision may be obtained from: Bureau of Land Management, Alaska State Office, 222 West Seventh Avenue, #13, Anchorage, Alaska 99513-7599.

FOR FURTHER INFORMATION CONTACT: Eileen Ford, by phone at (907) 271-5715, or by e-mail at Eileen_Ford@ak.blm.gov. Persons who use a telecommunication device (TTD) may call the Federal Information Relay Service (FIRS) at 1-800-877-8330, 24 hours a day, seven days a week, to contact Ms. Ford.

Eileen Ford,
Land Law Examiner, Branch of Adjudication II.

[FR Doc. 05-11201 Filed 6-6-05; 8:45 am]

BILLING CODE 4310-$$-M